DEPARTMENT OF ENERGY

Federal Energy Regulatory Commission

Combined Notice of Filings # 1

Take notice that the Commission received the following electric corporate filings:

Docket Numbers: EC23-85-000.

Applicants: Boomtown Solar Energy LLC, BREC Holding Company, LLC, Union Electric Company d/b/a Ameren Missouri.

Description: Joint Application for Authorization Under Section 203 of the Federal Power Act of Boomtown Solar Energy LLC, et al.

Filed Date: 5/3/23.

Accession Number: 20230503-5176.

Comment Date: 5 p.m. ET 7/3/23.

Take notice that the Commission received the following electric rate filings:

Docket Numbers: ER10-1484-029; ER12-2381-015; ER13-1069-018; ER14-1140-005.

Applicants: Inspire Energy Holdings, LLC, MP2 Energy LLC, MP2 Energy NE LLC, Shell Energy North America (US), L.P.

Description: Notice of Change in Status of Shell Energy North America (US), L.P., et al.

Filed Date: 5/1/23.

Accession Number: 20230501-5577.

Comment Date: 5 p.m. ET 5/22/23.

Docket Numbers: ER10-2354-012.

Applicants: Midway-Sunset Cogeneration Company.

Description: Notice of Non-Material Change in Status of Midway-Sunset Cogeneration Company.

Filed Date: 5/2/23.

Accession Number: 20230502-5278.

Comment Date: 5 p.m. ET 5/23/23.

Docket Numbers: ER10-2434-012; ER10-2436-012; ER10-2467-012; ER17-1666-009; ER18-1709-004; ER19-1635-003.

Applicants: Hoosier Wind Project, LLC, Wapsipinicon Wind Project, LLC, Fenton Power Partners I, LLC.

Description: Notice of Change in Status of Fenton Power Partners I, LLC, et al.

Filed Date: 5/1/23.

Accession Number: 20230501-5582.

Comment Date: 5 p.m. ET 5/22/23.

Docket Numbers: ER10-2727-007; ER10-1451-009; ER10-1467-010; ER10-1469-010; ER10-1473-009; ER10-1474-009; ER10-1478-011; ER10-2687-009; ER10-2688-012; ER10-2689-012; ER10-2728-011; ER11-3907-003.

Applicants: The Toledo Edison Company, Green Valley Hydro, LLC, West Penn Power Company, The Potomac Edison Company, Monongahela Power Company, Pennsylvania Electric Company, Metropolitan Edison Company, Pennsylvania Power Company, The Cleveland Electric Illuminating Company, Ohio Edison Company, Jersey Central Power & Light, Allegheny Energy Supply Company, LLC.

Description: Notice of Non-Material Change in Status of Allegheny Energy Supply Company, LLC, et al.

Filed Date: 4/28/23.

Accession Number: 20230428-5730.

Comment Date: 5 p.m. ET 5/19/23.

Docket Numbers: ER12-1470-014; ER10-3026-012; ER16-1833-009.

Applicants: Sempra Gas & Power Marketing, LLC, Termoelectricia U.S., LLC, Energia Sierra Juarez U.S., LLC.

Description: Notice of Non-Material Change in Status of Energia Sierra Juarez U.S., LLC, et al.

Filed Date: 5/1/23.

Accession Number: 20230501-5579.

Comment Date: 5 p.m. ET 5/22/23.

Docket Numbers: ER15-2376-005; ER10-2020-004.

Applicants: PPL Renewable Energy, LLC, Energy Power Investment Company, LLC.

Description: Notice of Change in Status of Energy Power Investment Company, LLC, et al.

Filed Date: 5/1/23.

Accession Number: 20230501-5581.

Comment Date: 5 p.m. ET 5/22/23.

Docket Numbers: ER18-1534-013; ER10-1852-079; ER10-1951-055; ER11-4462-078; ER17-838-053; ER18-1535-012; ER20-2012-008; ER22-1454-003.

Applicants: LI Solar Generation, LLC, Orbit Bloom Energy, LLC, Montauk Energy Storage Center, LLC, NextEra Energy Marketing, LLC, NEPM II, LLC, NextEra Energy Services Massachusetts, LLC, Florida Power & Light Company, East Hampton Energy Storage Center, LLC.

Description: Notice of Change in Status of East Hampton Energy Storage Center, LLC, et al.

Filed Date: 5/1/23.

Accession Number: 20230501-5580.

Comment Date: 5 p.m. ET 5/22/23.

Docket Numbers: ER20-59-004; ER10-1874-015; ER15-1952-013; ER16-2520-005; ER17-318-005; ER18-97-003; ER19-8-005; ER19-9-009; ER20-57-003; ER20-58-003; ER20-339-003; ER20-422-003.

Applicants: FL Solar 1, LLC, Twiggs County Solar, LLC, FL Solar 4, LLC, GA Solar 3, LLC, Mankato Energy Center II, LLC, Sweetwater Solar, LLC, MS Solar 3, LLC, Three Peaks Power, LLC, Grand View PV Solar Two LLC, Pavant Solar LLC, Mankato Energy Center, LLC, AZ Solar 1, LLC.

Description: Notice of Non-Material Change in Status of AZ Solar 1, LLC, et al.

Filed Date: 5/1/23.

Accession Number: 20230501-5576.

Comment Date: 5 p.m. ET 5/22/23.

Docket Numbers: ER20-59-005; ER10-1874-016; ER10-1946-017; ER10-2201-004; ER10-2721-014; ER10-2861-012; ER12-1308-015; ER13-291-003; ER13-1504-013; ER14-1468-014; ER14-2140-014; ER14-2141-014; ER14-2465-016; ER14-2466-016; ER14-2939-013; ER15-632-015; ER15-634-015; ER15-1471-013; ER15-1672-012; ER15-1952-014; ER15-2728-015; ER16-612-002; ER16-711-011; ER16-915-007; ER16-2010-007; ER16-2520-006; ER16-2561-007; ER17-318-006; ER18-97-004; ER19-8-006; ER19-9-010; ER19-2287-005; ER19-2294-005; ER19-2305-005; ER20-57-004; ER20-58-004; ER20-339-004; ER20-422-004.

Applicants: FL Solar 1, LLC, Twiggs County Solar, LLC, FL Solar 4, LLC, GA Solar 3, LLC, Valencia Power, LLC, Mesquite Power, LLC, Goal Line L.P., Mankato Energy Center II, LLC, Sweetwater Solar, LLC, MS Solar 3, LLC, Three Peaks Power, LLC, Sunflower Wind Project, LLC, Grand View PV Solar Two LLC, Hancock Wind, LLC, Comanche Solar PV, LLC, Pio Pico Energy Center, LLC, Greeley Energy Facility, LLC, Maricopa West Solar PV, LLC, Pavant Solar LLC, Evergreen Wind Power II, LLC, Blue Sky West, LLC, Cottonwood Solar, LLC, CID Solar, LLC, Imperial Valley Solar Company (IVSC) 2, LLC, RE Camelot LLC, RE Columbia Two LLC, Selmer Farm, LLC, Mulberry Farm, LLC, KMC Thermo, LLC, SWG Arapahoe, LLC, EnergyMark, LLC, Palouse Wind, LLC, Fountain Valley Power, L.L.C., El Paso Electric Company, Marina Energy, LLC, Broad River Energy LLC, Mankato Energy Center, LLC, AZ Solar 1, LLC.

Description: Notice of Non-Material Change in Status of AZ Solar 1, LLC, et al.

Filed Date: 5/1/23.

Accession Number: 20230501-5585.

Comment Date: 5 p.m. ET 5/22/23.

Docket Numbers: ER21-1251-002; ER22-2141-002; ER22-2519-002.

Applicants: Bellflower Solar 1, LLC, Sun Mountain Solar 1, LLC, Bighorn Solar 1, LLC.

Description: Notice of Non-Material Change in Status of Bighorn Solar 1, LLC, et al.

Filed Date: 5/1/23.

Accession Number: 20230501-5578.

Comment Date: 5 p.m. ET 5/22/23.

Docket Numbers: ER22-1549-004.

Applicants: Sun Streams PVS, LLC.

Description: Notice of Non-Material Change in Status of Sun Streams PVS, LLC.

Filed Date: 4/28/23.

Accession Number: 20230428-5729.

Comment Date: 5 p.m. ET 5/19/23.

Docket Numbers: ER22-1982-006; ER18-882-018; ER18-2314-013; ER22-2048-003; ER22-2706-004; ER22-2824-005.

Applicants: Yellow Pine Solar, LLC, Eight Point Wind, LLC, Skipjack Solar Center, LLC, Sholes Wind Energy, LLC, Elk City Renewables II, LLC, Great Prairie Wind, LLC.

Description: Notice of Change in Status of Great Prairie Wind, LLC, et al.

Filed Date: 5/1/23.

Accession Number: 20230501-5584.

Comment Date: 5 p.m. ET 5/22/23.

Docket Numbers: ER22-2046-002; ER10-1882-009; ER10-1894-010; ER10-2563-007; ER12-164-023; ER18-2203-003; ER19-1402-002; ER20-2288-003.

Applicants: Tatanka Ridge Wind, LLC, Coyote Ridge Wind, LLC, Upper Michigan Energy Resources Corporation, Bishop Hill Energy III LLC, Wisconsin Electric Power Company, Wisconsin Public Service Corporation, Wisconsin River Power Company, Sapphire Sky Wind Energy LLC.

Description: Notice of Non-Material Change in Status of Sapphire Sky Wind Energy LLC, et al.

Filed Date: 5/1/23.

Accession Number: 20230501-5575.

Comment Date: 5 p.m. ET 5/22/23.

Docket Numbers: ER22-2706-003.

Applicants: Eight Point Wind, LLC.

Description: Notice of Change in Status of Eight Point Wind, LLC.

Filed Date: 5/1/23.

Accession Number: 20230501-5583.

Comment Date: 5 p.m. ET 5/22/23.

Docket Numbers: ER23-1351-001.

Applicants: Midcontinent Independent System Operator, Inc.

Description: Tariff Amendment: 2023-05-04_SA 3482 ATC-Wisconsin Electric Power Sub 2nd Rev GIA (J878 J1316) to be effective 3/8/2023.

Filed Date: 5/4/23.

Accession Number: 20230504-5061.

Comment Date: 5 p.m. ET 5/25/23.

Docket Numbers: ER23-1373-001.

Applicants: Hillcrest Solar I, LLC.

Description: Notice of Change in Status of Hillcrest Solar I, LLC.

Filed Date: 5/1/23.

Accession Number: 20230501-5574.

Comment Date: 5 p.m. ET 5/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2023.
Debbie-Anne A. Reese,
Deputy Secretary.

[FR Doc. 2023-09957 Filed 5-9-23; 8:45 am]

BILLING CODE 6717-01-P